DEPARTMENT OF JUSTICE

Antitrust Division

Notice Pursuant to the National Cooperative Research and Production Act of 1993—The Open Group, L.L.C.

Notice is hereby given that, on June 18, 2018, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Beeond, Inc., New Bern, NC; Bliley Technologies, Inc., Erie, PA; China Eastern Airlines, Shanghai, PEOPLE'S REPUBLIC OF CHINA; ConocoPhillips Company, Houston, TX; Miltech Limited, Langley, UNITED KINGDOM; Enterprise Wise LLC, Hoschton, GA; HIMA Paul Hildebrandt GmbH, Houston, TX; International Foundation for Digital Competences, Zaltbommel, THE NETHERLANDS; Kongsberg Maritime, Kungberg, NORWAY; L3 Technologies, Inc., Camden, NJ; Lacibus Ltd., Steaford, UNITED KINGDOM; Leeds City Council, Leeds, UNITED KINGDOM; Phoenix Contact GmbH & Co., Blomberg, GERMANY; Pramana, Paris, FRANCE; QubeStation, Inc., Chantilly, VA; Royal Vopak, Rotterdam, THE NETHERLANDS; Sanofi S.A., Bridgewater, NJ; Seagate Technology, LLC, Cupertino, CA; Symbiosis Institute of Telecom Management, Lavale, INDIA; Telephonics Corporation, Farmingdale, NY; Universitat Rovira i Virgili, Tarragona, SPAIN; University of Ottawa, Ottawa, CANADA; WellAware Holdings, Inc., San Antonio, TX; and Wood Group USA, Inc., Houston, TX, have been added as parties to this venture.

Also, Belcan, LLC, Oldsmar, FL; Cambia Health Solutions, Inc., Portland, OR; Cape Software, Inc., The Woodlands, TX; Costco Wholesale, Issaquah, WA; InProgress sp. z.o.o., Krakow, POLAND; Interos Solutions, Inc., McLean, VA; JNS Solutions, Inc., New Port Richy, FL; Materna GmbH Information & Communications, Dortmund, GERMANY; Mike Moore Consultancy Ltd., Colchester, UNITED KINGDOM; Norwegian University of Science and Technology, Trondheim, NORWAY; On Target Training & Management, LLC, Raleigh, NC; Piotr Golos, Sokolow Podlaski, POLAND; Skillmetrix Knowledge Services LLP, Pune, INDIA; and University of Washington, Kirkland, WA, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on February 8, 2018. A notice was published in the Federal Register pursuant to Section 6(b) of the Act on March 12, 2018 (83 FR 10752).

Suzanne Morris,
Chief, Premerger and Division Statistics Unit, Antitrust Division.

[FR Doc. 2018-15274 Filed 7-17-18; 8:45 am]

BILLING CODE 4410-11-P